DEPARTMENT OF ENERGY

10 CFR Part 430

[Docket Number EERE-2016-BT-STD-0022]

RIN 1904-AD69

Energy Conservation Program: Energy Conservation Standards for Uninterruptible Power Supplies

Correction

In rule document 2019-2635 beginning on page 1447 in the issue of Friday, January 10, 2020, make the following correction:

§ 430.32 [Corrected]

On page 1503, in § 430.32(z)(3) the table should appear as follows:

Battery charger product class | Rated output power | Minimum efficiency
10a (VFD UPSs) | 0 W < Prated ≤ 300 W | −1.20E-06 * P 2rated + 7.17E-04 * Prated + 0.862.
| 300 W < Prated ≤ 700 W | −7.85E-08 * P 2rated + 1.01E-04 * Prated + 0.946.
| Prated > 700 W | −7.23E-09 * P 2rated + 7.52E-06 * Prated + 0.977.
10b (VI UPSs) | 0 W < Prated ≤ 300 W | −1.20E-06 * P 2rated + 7.19E-04 * Prated + 0.863.
| 300 W < Prated ≤ 700 W | −7.67E-08 * P 2rated + 1.05E-04 * Prated + 0.947.
| Prated > 700 W | −4.62E-09 * P 2rated + 8.54E-06 * Prated + 0.979.
10c (VFI UPSs) | 0 W < Prated ≤ 300 W | −3.13E-06 * P 2rated + 1.96E-03 * Prated + 0.543.
| 300 W < Prated ≤ 700 W | −2.60E-07 * P 2rated + 3.65E-04 * Prated + 0.764.
| Prated > 700 W | −1.70E-08 * P 2rated + 3.85E-05 * Prated + 0.876.

[FR Doc. C1-2019-26354 Filed 1-17-20; 8:45 am]

BILLING CODE 1301-00-D